SMALL BUSINESS ADMINISTRATION

[License No. 02/02-0647]

Praesidian Capital Opportunity Fund III, LP; Notice Seeking Exemption Under Section 312 of the Small Business Investment Act, Conflicts of Interest

Notice is hereby given that Praesidian Capital Opportunity Fund III, LP, 419 Park Avenue South, New York, NY 10016, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Praesidian Capital Opportunity Fund III, LP proposes to transfer assets between itself and its Associate Praesidian Capital Opportunity Fund III-A, LP to achieve pro rata allocation of investments between the funds.

The financing is brought within the purview of § 107.730(a) of the Regulations because Praesidian Capital Opportunity Fund III, LP and its Associate Praesidian Capital Opportunity Fund III-A, LP propose to “self deal” so the transactions that will effect the proposed transfer require prior SBA approval.

Notice is hereby given that any interested person may submit written comments on the transaction, within fifteen days of the date of this publication, to the Associate Administrator for Investment, U.S. Small Business Administration, 409 Third Street SW., Washington, DC 20416.

Dated: November 16, 2011.
Sean J. Greene,
Associate Administrator for Investment.

[FR Doc. 2011-31193 Filed 12-6-11; 8:45 am]

BILLING CODE P